DEPARTMENT OF ENERGY

Federal Energy Regulatory Commission

Combined Notice of Filings #1

Take notice that the Commission received the following electric corporate filings:

Docket Numbers: EC23-61-000.

Applicants: Eligo Energy LLC, Phoenix Energy Group, LLC.

Description: Joint Application for Authorization Under Section 203 of the Federal Power Act of Phoenix Energy Group, LLC, et al.

Filed Date: 3/8/23.

Accession Number: 20230308-5165.

Comment Date: 5 p.m. ET 3/29/23.

Take notice that the Commission received the following electric rate filings:

Docket Numbers: ER10-2721-013.

Applicants: El Paso Electric Company.

Description: El Paso Electric Company submits Notice of Change in Status to Reflect Participation in California Independent System Operator Corporation's Energy Imbalance Market.

Filed Date: 9/9/22.

Accession Number: 20220909-5175.

Comment Date: 5 p.m. ET 3/23/23.

Docket Numbers: ER23-397-002.

Applicants: PJM Interconnection, L.L.C.

Description: Tariff Amendment: Amendment to ISA and ICSA, SA Nos. 5564 and 5565; Queue No. AA2-161 (amend) to be effective 1/9/2023.

Filed Date: 3/9/23.

Accession Number: 20230309-5042.

Comment Date: 5 p.m. ET 3/30/23.

Docket Numbers: ER23-1272-000.

Applicants: Arizona Public Service Company.

Description: § 205(d) Rate Filing: Replacement Generation OATT Revisions to be effective 5/9/2023.

Filed Date: 3/9/23.

Accession Number: 20230309-5043.

Comment Date: 5 p.m. ET 3/30/23.

Docket Numbers: ER23-1273-000.

Applicants: Midcontinent Independent System Operator, Inc.

Description: § 205(d) Rate Filing: 2023-03-09_SA 4002 Ameren IL-Moraine Sands Wind FSA (GIA) (J1453) to be effective 5/9/2023.

Filed Date: 3/9/23.

Accession Number: 20230309-5072.

Comment Date: 5 p.m. ET 3/30/23.

Docket Numbers: ER23-1274-000.

Applicants: Alabama Power Company, Georgia Power Company, Mississippi Power Company.

Description: § 205(d) Rate Filing: Alabama Power Company submits tariff filing per 35.13(a)(2)(iii: Chilatchee 44 LGIA Filing to be effective 2/23/2023.

Filed Date: 3/9/23.

Accession Number: 20230309-5085.

Comment Date:. 5 p.m. ET 3/30/23.

Docket Numbers: ER23-1275-000.

Applicants: Aron Energy Prepay 21 LLC.

Description: Baseline eTariff Filing: Baseline new to be effective 5/9/2023.

Filed Date: 3/9/23.

Accession Number: 20230309-5088.

Comment Date: 5 p.m. ET 3/30/23.

Docket Numbers: ER23-1276-000.

Applicants: Aron Energy Prepay 22 LLC.

Description: Baseline eTariff Filing: Baseline new to be effective 5/9/2023.

Filed Date: 3/9/23.

Accession Number: 20230309-5091.

Comment Date: 5 p.m. ET 3/30/23.

Docket Numbers: ER23-1277-000.

Applicants: Aron Energy Prepay 23 LLC.

Description: Baseline eTariff Filing: Baseline new to be effective 5/9/2023.

Filed Date: 3/9/23.

Accession Number: 20230309-5092.

Comment Date: 5 p.m. ET 3/30/23.

Docket Numbers: ER23-1278-000.

Applicants: Eastern Power & Gas LLC.

Description: Baseline eTariff Filing: Market-Based Rate Tariff Application to be effective 3/10/2023.

Filed Date: 3/9/23.

Accession Number: 20230309-5113.

Comment Date: 5 p.m. ET 3/30/23.

Take notice that the Commission received the following electric securities filings:

Docket Numbers: ES23-37-000.

Applicants: New Hampshire Transmission, LLC.

Description: Application Under Section 204 of the Federal Power Act for Authorization to Issue Securities of New Hampshire Transmission, LLC.

Filed Date: 3/8/23.

Accession Number: 20230308-5168.

Comment Date: 5 p.m. ET 3/29/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 9, 2023.
Kimberly D. Bose,
Secretary.

[FR Doc. 2023-05301 Filed 3-14-23; 8:45 am]

BILLING CODE 6717-01-P